DEPARTMENT OF COMMERCE

[Docket No. 021211304-2304-01]

Office of the Secretary; Posting of Alternative Fuel Vehicle Reports on the Department of Commerce Web Site

AGENCY: Department of Commerce.

ACTION: Notice.

SUMMARY: The Department of Commerce's (DoC) alternative fuel vehicle (AFV) reports for FY 1999, FY 2000, and FY 2001 are posted on the Internet at http://www.osec.doc.gov/oas/fleet.htm. The purpose of this notice is to provide information on DoC's compliance with the Energy Policy Act of 1992 (EPACT) (Pub. L. 102-486), which requires that AFV reports for FY 1999 and beyond be made public including placing them on a publicly available Web site and publishing the availability of the reports, including the Web site address, in the Federal Register.

DATES: Pursuant to court order, this notice will be published in the Federal Register prior to January 31, 2003, and posted on the DoC Web site prior to January 31, 2003.

ADDRESSES: Interested persons without internet access can obtain copies of the AFV reports from Mauryce Johnson at U.S. Department of Commerce, 1401 Constitution Avenue, NW., Washington, DC 20230.

FOR FURTHER INFORMATION CONTACT: Mauryce Johnson, (202) 482-8246.

SUPPLEMENTARY INFORMATION: The Energy Policy Act of 1992 (EPACT) (Pub. L. 102-486) requires that seventy-five percent of all covered light-duty vehicles acquired for Federal fleets in FY 1999 and beyond be AFVs.

Earthjustice, on behalf of the Center for Biological Diversity, the Bluewater Network, and the Sierra Club, brought suit against eighteen Federal agencies, including DoC, in the United States District Court for the Northern District of California, alleging noncompliance with EPACT's provisions regarding Federal fleets. On July 26, 2002, the court ordered that the named Federal agencies prepare and submit overdue reports to Congress outlining their AFV and acquisitions for FY 1999, FY 2000, and FY 2001.

Pursuant to court order, each of the eighteen Federal agencies must individually publish the availability of their reports in the Federal Register no later than January 31, 2003. Additionally, the agencies must post their reports on their Web sites, again no later than January 31, 2003.

Doc's AFV reports for FY 1999, FY 2000, and FY 2001, are currently available at http://www.osec.doc.gov/oas/fleet.htm.

Authority: Pub. L. 102-486, Title III, Sec. 310, Oct. 24, 1992, 106 Stat. 2874.

Denise L. Wells,
Acting Director for Administrative Services.

[FR Doc. 02-31924 Filed 12-18-02; 8:45 am]

BILLING CODE 3510-03-P